DEPARTMENT OF HOMELAND SECURITY

Federal Emergency Management Agency

[Docket ID FEMA-2010-0032]

Federal Radiological Preparedness Coordinating Committee

AGENCY: Federal Emergency Management Agency, DHS.

ACTION: Notice of public meeting.

SUMMARY: The Federal Radiological Preparedness Coordinating Committee (FRPCC) is holding a public meeting on June 3, 2010 in Arlington, VA.

DATES: The meeting will take place on June 3, 2010. The session open to the public will be from 9 a.m. to 11 a.m. Send written statements and requests to make oral statements to the contact person listed below by close of business May 21, 2010.

ADDRESSES: The meeting will be held at the Crystal City Courtyard Marriott, Blue Ridge Shenandoah Conference Room, located at 2899 Jefferson Davis Highway, Arlington, VA 22202.

FOR FURTHER INFORMATION CONTACT: Timothy Greten, FRPCC Executive Secretary, DHS/FEMA, 1800 South Bell Street—CC847, Mail Stop 3025, Arlington, VA 20598-3025; telephone (202) 646-3907; fax (703) 305-0837; or e-mail timothy.greten@dhs.gov.

SUPPLEMENTARY INFORMATION: The role and functions of the Federal Radiological Preparedness Coordinating Committee (FRPCC) are described in 44 CFR 351.10(a) and 351.11(a). The FRPCC is holding a public meeting on June 3, 2010, from 9 a.m. to 11 a.m., at the Crystal City Courtyard Marriott, Blue Ridge Shenandoah Conference Room, located at 2899 Jefferson Davis Highway, Arlington, VA 22202. Please note that the meeting may close early. This meeting is open to the public. Public meeting participants must pre-register to be admitted to the meeting. To pre-register, please provide your name and telephone number by close of business on May 21, 2010, to the individual listed in the FOR FURTHER INFORMATION CONTACT section above.

The tentative agenda for the FRPCC meeting includes: (1) Introductions, (2) reports from FRPCC Subcommittees, (3) old business and new business, and (4) business from the floor. The FRPCC Chair shall carry out the meeting in a way that will facilitate the orderly conduct of business. Reasonable provisions will be made, if time permits, for oral statements from the public of not more than five minutes in length. Any member of the public who wishes to make an oral statement at the meeting should send a written request for time by close of business on May 21, 2010, to the individual listed in the FOR FURTHER INFORMATION CONTACT section above. Any member of the public who wishes to file a written statement with the FRPCC should provide the statement by close of business on May 21, 2010, to the individual listed in the FOR FURTHER INFORMATION CONTACT section above.

Information on Services for Individuals With Disabilities

For information on facilities or services for individuals with disabilities or to request special assistance at the meeting, please write or call the individual listed in the FOR FURTHER INFORMATION CONTACT section above as soon as possible.

Authority: 44 CFR 351.10(a) and 351.11(a).

Timothy W. Manning,
Deputy Administrator, Protection and National Preparedness, Federal Emergency Management Agency.

[FR Doc. 2010-11673 Filed 5-14-10; 8:45 am]

BILLING CODE 9110-21-P